DEPARTMENT OF COMMERCE

National Oceanic and Atmospheric Administration

RIN 0648-XC731

Caribbean Fishery Management Council; Scoping Meetings

AGENCY: National Marine Fisheries Service (NMFS), National Oceanic and Atmospheric Administration (NOAA), Commerce.

ACTION: Notice of scoping meetings.

SUMMARY: The Caribbean Fishery Management Council will hold scoping meetings to obtain input from fishers, the general public, and the local agencies representatives on the development of island-specific fishery management plans for Puerto Rico, St. Thomas/St. John, USVI and St. Croix, USVI.

DATES: The scoping meetings will be held from July 8, 2013, through July 12, 2013. See SUPPLEMENTARY INFORMATION for specific dates.

ADDRESSES: The scoping meetings will be held in Puerto Rico and in the U.S. Virgin Islands. See SUPPLEMENTARY INFORMATION for specific times and locations.

FOR FURTHER INFORMATION CONTACT: Caribbean Fishery Management Council, 270 Muñoz Rivera Avenue, Suite 401, San Juan, Puerto Rico 00918-1903, telephone (787) 766-5926.

SUPPLEMENTARY INFORMATION: A fishery management plan will be developed for each of these areas.

The document entitled “Development of a Comprehensive Fishery Management Plan for the Exclusive Economic Zone of St. Thomas/St. John, USVI,” will consider the following alternative actions:

Action 1: Establish the fishery management units (FMUs) for the comprehensive St. Thomas/St. John fishery management plan (FMP).

Action 2: Revise the species composition of the comprehensive St. Thomas/St. John FMP.

Action 3: Establish management reference points for any new species added to the comprehensive St. Thomas/St. John FMP.

Action 4: Modify or establish additional management measures.

The document entitled “Development of a Comprehensive Fishery Management Plan for the Exclusive Economic Zone of St. Croix, USVI,” will consider the following alternative actions:

Action 1: Establish the fishery management units (FMUs) for the comprehensive St. Croix, USVI fishery management plan (FMP).

Action 2: Revise the species composition of the comprehensive St. Croix FMP.

Action 3: Establish management reference points for any new species added to the comprehensive St. Croix, USVI FMP.

Action 4: Modify or establish additional management measures.

The document entitled “Development of a Comprehensive Fishery Management Plan for the Exclusive Economic Zone of Puerto Rico,” will consider the following alternative actions:

Action 1: Establish the fishery management units (FMUs) for the comprehensive Puerto Rico fishery management plan (FMP).

Action 2: Revise the species composition of the comprehensive Puerto Rico FMP.

Action 3: Establish management reference points for any new species added to the comprehensive Puerto Rico FMP.

Action 4: Modify or establish additional management measures.

The comprehensive plans will incorporate and modify, as needed, federal fishery management measures included in each of the existing species based management plans (Spiny Lobster, Reef Fish, Coral and Queen Conch). The goal is to create management plans tailored to the specific fishery management needs of each area. If approved, these new management plans being developed for each area; St. Thomas/St. John, USVI; St. Croix, USVI, and Puerto Rico, will replace the current species-based plans presently governing commercial and recreational harvest in the U.S. Caribbean federal waters.

The Caribbean Fishery Management Council will hold scoping meetings to receive public input on the management options mentioned above. The complete document is available at: www.caribbeanfmc.com or you may contact Ms. Livia Montalvo at livia_montalvo_cfmc@yahoo.com, or the Council office at (787) 766-5926 to obtain copies.

Written comments can be sent to the Council not later than July 31, 2013, by regular mail to the address below, or via email to graciela_cfmc@yahoo.com.

The scoping meetings will be held on the following dates and locations:

In Puerto Rico

July 8, 2013-7 p.m.—Centro de Usos Múltiples de Vieques, Calle Antonio G. Mellado, Vieques, Puerto Rico.

July 9, 2013-7 p.m.—DoubleTree by Hilton San Juan Hotel, De Diego Avenue, San Juan, Puerto Rico.

July 10, 2013-2 p.m.—Holiday Inn Ponce & Tropical Casino, 3315 Ponce By Pass, Ponce, Puerto Rico.

July 10, 2013-7 p.m.—Mayagüez Holiday Inn, 2701 Hostos Avenue, Mayagüez, Puerto Rico.

July 11, 2013-7 p.m.—Asociación de Pescadores Unidos de Playa Hucares de Naguabo, Naguago, Puerto Rico.

July 12, 2013-6 p.m.—Club Náutico de Arecibo, Carr. 681 Km. 1.4, Barrio Islote, Sector Vigía, Arecibo, Puerto Rico.

In the U.S. Virgin Islands

July 9, 2013-7 p.m.—The Buccaneer Hotel, Estate Shoys, Christiansted, St. Croix, U.S. Virgin Islands.

July 10, 2013-7 p.m.—Windward Passage Hotel, Charlotte Amalie, St. Thomas, U.S. Virgin Islands.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: June 14, 2013.
Tracey L. Thompson,
Acting Deputy Director, Office of Sustainable Fisheries, National Marine Fisheries Service.

[FR Doc. 2013-14568 Filed 6-18-13; 8:45 am]

BILLING CODE 3510-22-P